DEPARTMENT OF THE INTERIOR

Fish and Wildlife Service

Notice of Issuance of Permit for Marine Mammals

On May 7, 2001, a notice was published in the Federal Register (Vol. 66, No. 88, Page No. 23044), that an application had been filed with the Fish and Wildlife Service by William Bricker for a permit (PRT-042025) to import one polar bear taken from the Lancaster Sound population, Canada for personal use.

Notice is hereby given that on July 11, 2001, as authorized by the provisions of the Marine Mammal Protection Act of 1972, as amended (16 U.S.C. 1361 et seq.) the Fish and Wildlife Service authorized the requested permit subject to certain conditions set forth therein.

On May 22, 2001, a notice was published in the Federal Register (Vol. 66, No. 99, Page No. 28196), that an application had been filed with the Fish and Wildlife Service by William Carvajal for a permit (PRT-042636) to import one polar bear taken from the Lancaster Sound population, Canada for personal use.

Notice is hereby given that on July 20, 2001, as authorized by the provisions of the Marine Mammal Protection Act of 1972, as amended (16 U.S.C. 1361 et seq.) the Fish and Wildlife Service authorized the requested permit subject to certain conditions set forth therein.

On May 22, 2001, a notice was published in the Federal Register (Vol. 66, No. 99, Page No. 28195), that an application had been filed with the Fish and Wildlife Service by John Link for a permit (PRT-042520) to import one polar bear taken from the Lancaster Sound population, Canada for personal use.

Notice is hereby given that on July 20, 2001, as authorized by the provisions of the Marine Mammal Protection Act of 1972, as amended (16 U.S.C. 1361 et seq.) the Fish and Wildlife Service authorized the requested permit subject to certain conditions set forth therein.

On June 6, 2001, a notice was published in the Federal Register (Vol. 66, No. 109, Page No. 30476), that an application had been filed with the Fish and Wildlife Service by Jay Earl Link for a permit (PRT-042006) to import one polar bear taken from the Lancaster Sound population, Canada for personal use.

Notice is hereby given that on July 20, 2001, as authorized by the provisions of the Marine Mammal Protection Act of 1972, as amended (16 U.S.C. 1361 et seq.) the Fish and Wildlife Service authorized the requested permit subject to certain conditions set forth therein.

On June 27, 2001, a notice was published in the Federal Register (Vol. 66, No. 124, Page No. 34232), that an application had been filed with the Fish and Wildlife Service by Ronald J. Jameson, USGS, Biological Resources Division, for an amendment to his permit (PRT-777239) to allow take of sea otters (Enhydra lutris) for the purpose of scientific research.

Notice is hereby given that on July 26, 2001, as authorized by the provisions of the Marine Mammal Protection Act of 1972, as amended (16 U.S.C. 1361 et seq.) the Fish and Wildlife Service authorized the requested permit amendment subject to certain conditions set forth therein.

Documents and other information submitted for these applications are available for review by any party who submits a written request to the U.S. Fish and Wildlife Service, Division of Management Authority, 4401 North Fairfax Drive, Room 700, Arlington, Virginia 22203, telephone (703) 358-2104 or fax (703) 358-2281.

Dated: August 3, 2001.
Monica Farris,
Senior Permit Biologist, Branch of Permits, Division of Management Authority.

[FR Doc. 01-20383 Filed 8-13-01; 8:45 am]

BILLING CODE 4310-55-P